INTERNATIONAL TRADE COMMISSION

[Inv. No. 337-TA-555]

In the Matter of Certain Devices for Determining Organ Positions and Certain Subassemblies Thereof; Notice of Commission Determination Not To Review an Initial Determination Terminating the Investigation on the Basis of a Settlement Agreement

AGENCY: U.S. International Trade Commission.

ACTION: Notice.

SUMMARY: Notice is hereby given that the U.S. International Trade Commission has determined not to review an initial determination (“ID”) (Order No. 12) issued by the presiding administrative law judge (“ALJ”) terminating the above-captioned investigation in its entirety on the basis of a settlement agreement.

FOR FURTHER INFORMATION CONTACT: Clara Kuehn, Esq., Office of the General Counsel, U.S. International Trade Commission, 500 E Street, SW., Washington, DC 20436, telephone (202) 205-3012. Copies of the public version of the ALJ's ID and all other nonconfidential documents filed in connection with this investigation are or will be available for inspection during official business hours (8:45 a.m. to 5:15 p.m.) in the Office of the Secretary, U.S. International Trade Commission, 500 E Street, SW., Washington, DC 20436, telephone 202-205-2000.

General information concerning the Commission may also be obtained by accessing its Internet server (http://www.usitc.gov). The public record for this investigation may be viewed on the Commission's electronic docket (EDIS-ON-LINE) at http://edis.usitc.gov. Hearing-impaired persons are advised that information on this matter can be obtained by contacting the Commission's TDD terminal on 202-205-1810.

SUPPLEMENTARY INFORMATION: The Commission instituted this investigation on December 2, 2005, based on a complaint filed by SAS Praxim (“SAS”) of La Tronche, France, and Varian Medical Systems, Inc. (“Varian”) of Palo Alto, California. The complaint, as supplemented, alleged violations of section 337 by Resonant Medical, Inc. (“Resonant”) of Montreal, Canada, in the importation into the United States, the sale for importation, and the sale within the United States after importation of certain devices for determining organ positions and certain subassemblies thereof by reason of infringement of claims 1, 2, 5, and 10 of U.S. Patent No. 5,447,154. 70 FR 72314 (2005).

On February 16, 2006, the ALJ issued an ID (Order No. 5) granting a motion to intervene as a complainant filed by non-party Université Joseph Fourier (Grenoble) (“UJF”) of Grenoble, France. That ID was not reviewed by the Commission.

On April 10, 2006, the three complainants and sole respondent Resonant jointly moved to terminate the investigation in its entirety on the basis of a settlement agreement. On April 20, 2006, the Commission investigative attorney filed a response supporting the joint motion. On April 25, 2006, the ALJ issued an ID (Order No. 12) granting the joint motion to terminate.

No petitions for review of the ID were filed.

The authority for the Commission's determination is contained in section 337 of the Tariff Act of 1930, as amended (19 U.S.C. 1337), and in section 210.42 of the Commission's Rules of Practice and Procedure (19 CFR 210.42).

By order of the Commission.
Issued: May 15, 2006.
Marilyn R. Abbott,
Secretary to the Commission.

[FR Doc. E6-7582 Filed 5-17-06; 8:45 am]

BILLING CODE 7020-02-P